DEPARTMENT OF COMMERCE

National Oceanic and Atmospheric Administration

Agency Information Collection Activities; Submission to the Office of Management and Budget (OMB) for Review and Approval; Comment Request; Permits for Incidental Taking of Endangered or Threatened Species

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 25, 2021 (86 FR 28061) during a 60-day comment period. This notice allows for an additional 30 days for public comments.

Agency: National Oceanic and Atmospheric Administration (NOAA), Commerce.

Title: Permits for Incidental Taking of Endangered or Threatened Species.

OMB Control Number: 0648-0230.

Form Number(s): None.

Type of Request: Regular submission (extension of a currently approved information collection).

Number of Respondents: 37.

Average Hours per Response: 80 hours for a permit application (including Habitat Conservation Plans); 40 minutes for transfer of an incidental take permit; 8 hours for a permit report, 30 minutes for a Certificate of Inclusion; and 10 hours for a watershed plan.

Total Annual Burden Hours: 408.

Needs and Uses: All of the required information collected in the application is used to evaluate the impacts of a proposed activity on endangered species; for example, to make the determinations required by the ESA prior to issuing an incidental take permit, and to establish appropriate permit conditions. The analysis involved in making these determinations requires detailed information on the activity, the ESA species and how the activity may affect the species directly or indirectly through alterations of the habitat.

The reports required by the incidental take permits are used by NMFS to monitor the taking, to assess the impacts to the species and its habitat, and to monitor compliance with the terms and conditions of the permit. This information is necessary to ensure that the taking is not appreciably reducing the likelihood of the survival and recovery of the species and for determining whether the terms and conditions of the permit are being complied with, as required by sections 10(a)(2)(B) and (C) of the ESA. The regulations at § 222.307(d)(1) state that permits must contain “Reporting requirements or rights of inspection for determining whether the terms and conditions are being complied with”. The requirements for reports therefore, vary from permit to permit, depending on the permit conditions.

Affected Public: Individuals or households; Business or other for-profit organizations; Not-for-profit institutions; State, Local, or Tribal government.

Frequency: An applicant needs to submit one final application and reporting occurs annually, but may vary from permit to permit, depending on the permit conditions.

Respondent's Obligation: Required to Obtain or Retain Benefits.

Legal Authority: The Endangered Species Act of 1973 (ESA; 16 U.S.C. 1531 et seq.).

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0230.

Sheleen Dumas,
Department PRA Clearance Officer, Office of the Chief Information Officer, Commerce Department.

[FR Doc. 2021-19810 Filed 9-13-21; 8:45 am]

BILLING CODE 3510-22-P